DEPARTMENT OF THE INTERIOR

Bureau of Land Management

[ES-956-1420-BJ; Group No. 553, Minnesota]

Eastern States: Filing of Plat of Survey

AGENCY: Bureau of Land Management, Interior

ACTION: Notice of filing of plats of survey; Minnesota.

SUMMARY: The Bureau of Land Management (BLM) will file the plats of survey of the lands described below in the BLM-Eastern States office in Springfield, Virginia, 30 calendar days from the date of publication in the Federal Register.

FOR FURTHER INFORMATION CONTACT: Bureau of Land Management, 7450 Boston Boulevard, Springfield, Virginia 22153. Attn: Cadastral Survey.

SUPPLEMENTARY INFORMATION: This survey was requested by the Bureau of Land Management, Eastern States, Division of Lands and Renewable Resources, Milwaukee Field Office.

The lands surveyed are:

Fourth Principal Meridian, Minnesota

The plat of survey represents the survey of an island in Kabetogama Lake, designated Tract No. 37, Township 69 North, Range 20 West, of the Fourth Principal Meridian, in the State of Minnesota, and was accepted June 5, 2009.

The plat of survey represents the survey of an island in Kabetogama Lake, designated Tract No. 37, Township 69 North, Range 21 West, of the Fourth Principal Meridian, in the State of Minnesota, and was accepted June 5, 2009.

We will place copies of the plats we described in the open files. They will be available to the public as a matter of information.

If BLM receives a protest against a survey, as shown on the plat, prior to the date of the official filing, we will stay the filing pending our consideration of the protest.

We will not officially file the plats until the day after we have accepted or dismissed all protests and they have become final, including decisions on appeals.

Dated: June 23, 2009.
Dominica Van Koten,
Chief Cadastral Surveyor.

[FR Doc. E9-15662 Filed 7-1-09; 8:45 am]

BILLING CODE 4310-GJ-P